SOCIAL SECURITY ADMINISTRATION

Agency Information Collection Activities: Comment Request

The Social Security Administration (SSA) publishes a list of information collection packages requiring clearance by the Office of Management and Budget (OMB) in compliance with Public Law 104-13, the Paperwork Reduction Act of 1995, effective October 1, 1995. This notice includes one revision to an OMB-approved information collection.

SSA is soliciting comments on the accuracy of the agency's burden estimate; the need for the information; its practical utility; ways to enhance its quality, utility, and clarity; and ways to minimize burden on respondents, including the use of automated collection techniques or other forms of information technology. Mail, e-mail, or fax your comments and recommendations on the information collection(s) to the OMB Desk Officer and SSA Reports Clearance Officer at the following addresses or fax numbers.

(OMB) Office of Management and Budget. Attn: Desk Officer for SSA. Fax: 202-395-6974. E-mail address: OIRA_Submission@omb.eop.gov.

(SSA) Social Security Administration, DCBFM. Attn: Reports Clearance Officer, 1333 Annex Building, 6401 Security Blvd., Baltimore, MD 21235. Fax: 410-965-6400. E-mail address: OPLM.RCO@ssa.gov.

SSA submitted the information collection listed below to OMB for clearance. Your comments on the information collection would be most useful if OMB and SSA receive them within 30 days from the date of this publication. To consider your comments, we must receive them no later than September 19, 2011. You can obtain a copy of the OMB clearance package by calling the SSA Reports Clearance Officer at 410-965-8783 or by writing to the above e-mail address.

Help America Vote Act—0960-0706. H.R. 3295, the Help America Vote Act of 2002, mandates that States verify the identities of newly registered voters. When newly registered voters do not have drivers' licenses or State-issued identification cards, they must supply the last four digits of their Social Security number to their local State election agencies for verification. The election agencies forward this information to their State Motor Vehicle Administration (MVA), who inputs the data into the American Association of MVAs, a central consolidation system that routes the voter data to SSA's Help America Vote Verification (HAVV) system. Once SSA's HAVV system has confirmed the identity of the voter, the information will return along the same route in reverse until it reaches the State election agency. The official respondents for this collection are the State MVAs.

Type of Request: Revision of an OMB-approved information collection.

Number of Respondents: 2,352,204.

Frequency of Response: 1.

Average Burden per Response: 2 minutes.

Estimated Annual Burden: 78,407 hours.

Dated: August 16, 2011.
Faye Lipsky,
Reports Clearance Officer, Center for Reports Clearance, Social Security Administration.

[FR Doc. 2011-21198 Filed 8-18-11; 8:45 am]

BILLING CODE 4191-02-P